DEPARTMENT OF HEALTH AND HUMAN SERVICES

Health Resources and Services Administration

National Practitioner Data Bank: Change in Self-Query Fee

AGENCY: Health Resources and Services Administration, DHHS.

ACTION: Notice.

SUMMARY: The Health Resources and Services Administration (HRSA), Department of Health and Human Services (DHHS), is announcing a two-dollar decrease in the fee charged to practitioners who request information about themselves (self-query) from the National Practitioner Data Bank (NPDB). The new fee to self-query the NPDB will be $8.00. There will be no change to the $4.25 entity fee.

DATES: The fee is effective on July 1, 2004.

FOR FURTHER INFORMATION CONTACT: Darryl Gray, Acting Director, Division of Practitioner Data Banks, Bureau of Health Professions, Health Resources and Services Administration, 7519 Standish Place, Suite 300, Rockville, Maryland 20857, Tel: (301) 443-2300. E-mail: policyanalysis@hrsa.gov.

SUPPLEMENTARY INFORMATION: The current fee structure ($10.00 per self-query) was announced in the Federal Register on April 22, 2003 (68 FR 19837). All self-queries are submitted and query responses received through the NPDB's Integrated Query and Reporting Service (IQRS) and paid via credit card.

The NPDB is authorized by the Health Care Quality Improvement Act of 1986 (the Act), Title IV of Pub. L. 99-660, as amended (42 U.S.C. 11101 et seq.). Section 427(b)(4) of the Act authorizes the establishment of fees for the costs of processing requests for disclosure and of providing such information.

Final regulations at 45 CFR part 60 set forth the criteria and procedures for information to be reported to and disclosed by the NPDB. Section 60.3 of these regulations defines the terms used in this announcement.

In determining any changes in the amount of the user fee, the Department uses the criteria set forth in § 60.12(b) of the regulations, as well as allowable costs pursuant to Title II, Division E, Labor, Health and Human Services, and Education, and Related Agencies Appropriations 2004, Pub. L. 108-199, enacted on January 23, 2004. This Act requires that the Department recover the full costs of operating the Data Bank through user fees. Paragraph (b) of the regulations states:

“The amount of each fee will be determined based on the following criteria:

(1) Use of electronic data processing equipment to obtain information—the actual cost for the service, including computer search time, runs, printouts, and time of computer programmers and operators, or other employees, (2) Photocopying or other forms of reproduction, such as magnetic tapes-actual cost of the operator's time, plus the cost of the machine time and the materials used, (3) Postage-actual cost, and (4) Sending information by special methods requested by the applicant, such as express mail or electronic transfer—the actual cost of the special service.”

Based on analysis of the current operational costs involved with processing self-queries, the Department is reducing the self-query fee by $2.00. The cost reduction is justified based on the NPDB's transition from a paper reporting and querying process to an all electronic, web-based system, the IQRS. This move to online reporting and querying has streamlined the operational processes required to manage self-query requests. In addition, other enhancements to the IQRS, such as online filing and payment for self-queries have resulted in decreased operational expenditures. In keeping with the Act, and pursuant to the requirements of § 60.12 of the regulations, there are sufficient funds to recover the full costs of operating the Data Bank with a decrease in the self-query fee.

According to the new fee schedule, a practitioner will be charged $8.00 per self-query submitted to the NPDB. The entity fee for querying the NPDB will remain $4.25 per name. For examples, see the table below.

Query method | Fee per name in query | Examples
Entity query (via Internet with electric payment) | $4.25 | 10 names in query. 10 × $4.25 = $42.50.
Practitioner self-query | 8.00 | One self-query = $8.00.

The Department will continue to review the user fee periodically, and will revise it as necessary. Any changes in the fee and their effective date will be announced in the Federal Register.

Dated: May 18, 2004.
Dennis P. Williams,
Deputy Administrator.

[FR Doc. 04-11684 Filed 5-21-04; 8:45 am]

BILLING CODE 4165-15-P